DEPARTMENT OF THE TREASURY

Internal Revenue Service

Internal Revenue Service Advisory Council (IRSAC); Nominations

AGENCY: Internal Revenue Service, Department of the Treasury.

ACTION: Request for nominations.

SUMMARY: The Internal Revenue Service (IRS) is requesting applications from individuals to be considered for selection as members of the Internal Revenue Service Advisory Council (IRSAC). Applications are currently being accepted for approximately 14 appointments that will begin in January 2020. IRSAC members are drawn from substantially diverse backgrounds representing a cross-section of the taxpaying public with substantial, disparate experience.

DATES: Written nominations must be received on or before June 10, 2019.

ADDRESSES: Nominations should be submitted to: Anna Millikan, IRS National Public Liaison, via email to publicliaison@irs.gov. Nominations may also be submitted via fax to 855-811-8021. Applications are available on the IRS website at https://www.irs.gov/pub/irs-pdf/f12339.pdf.

FOR FURTHER INFORMATION CONTACT: Anna Millikan at 202-317-6851 (not a toll-free number) or send an email to publicliaison@irs.gov.

SUPPLEMENTARY INFORMATION: Nominations of qualified individuals may come from individuals or organizations. They should describe and document the proposed member's qualifications for IRSAC. In particular, the IRSAC is seeking applicants with knowledge and background in one of the following areas:

Large Business & International: International tax expertise, experience as a certified public accountant working in or for a large, sophisticated organization, and/or experience working in-house at a major firm dealing with complex organizations.

Small Business & Self-Employed: Experience with online or digital businesses, experience with audit representation, experience educating on tax issues and topics, knowledge of passthrough entities, and/or knowledge of fiduciary tax.

Tax Exempt & Government Entities: Experience in tax exempt bonds and/or experience in employment tax and federal, state, local or Indian tribal governments.

Wage & Investment: Tax software and software industry experience, Volunteer Income Tax Assistance and Tax Counseling for the Elderly experience, experience marketing and applying industry benchmarks to operations, background in information technology financial services, with knowledge of technology innovations in public and private customer service sectors, and/or experience with S-corporations and partnership information returns.

The IRSAC serves as an advisory body to the Commissioner of Internal Revenue and provides an organized public forum for discussion of relevant tax administration issues between IRS officials and representatives of the public. The IRSAC proposes enhancements to IRS operations, recommends administrative and policy changes to improve taxpayer service, compliance and tax administration, discusses relevant information reporting issues, addresses matters concerning tax-exempt and government entities, and conveys the public's perception of professional standards and best practices for tax professionals.

This is a volunteer position. Travel expenses within government guidelines will be reimbursed. Appointed by the Commissioner of Internal Revenue with the concurrence of the Secretary of the Treasury, IRSAC members will serve three-year terms to allow for a rotation in membership which ensures that different perspectives are represented. In accordance with the Department of the Treasury Directive 21-03, a clearance process, including annual tax checks and a practitioner check with the IRS Office of Professional Responsibility, will be conducted. In addition, all applicants deemed “Best Qualified” shall undergo a Federal Bureau of Investigation fingerprint check.

The IRSAC is authorized under the Federal Advisory Committee Act, Public Law 92-463. The first Advisory Group to the Commissioner of Internal Revenue—or the Commissioner's Advisory Group (“CAG”)—was established in 1953 as a “national policy and/or issue advisory committee.” Renamed in 1998, the Internal Revenue Service Advisory Council (IRSAC) reflects the agency-wide scope of its focus as an advisory body to the entire agency.

All applicants will be sent an acknowledgment of receipt.

Equal opportunity practices will be followed for all appointments to the IRSAC in accordance with the Department of the Treasury and IRS policies. The IRS has special interest in assuring that women and men, members of all races and national origins, and individuals with disabilities have an opportunity to serve on advisory committees. Therefore, the IRS extends particular encouragement to nominations from such appropriately-qualified candidates.

Dated: April 29, 2019.
John Lipold,
Chief, Relationship Management, IRS National Public Liaison, Designated Federal Official, IRSAC.

[FR Doc. 2019-10465 Filed 5-23-19; 8:45 am]

BILLING CODE 4830-01-P